DEPARTMENT OF LABOR

Employment and Training Administration

Proposed Collection; Comment Request

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (P.A.-95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the proposed reinstatement of the “Planning Guidance and Instructions for Submission of the Strategic Five-Year State Plan and Plan Modifications for Title I of the Workforce Investment Act of 1998 (Workforce Investment Act) and the Wagner-Peyser Act”. A copy of the proposed information collection request (ICR) can be obtained by contacting the office listed below in the addressee's section of this notice.

DATES: Written comments must be submitted to the office listed in the addressee's section below on or before January 2, 2001.

ADDRESSES: Maria Kniesler, Division Chief, Office of One-Stop Operations, U.S. Department of Labor, Employment and Training Administration, 200 Constitution Avenue N.W., Room S-4231, Washington, D.C. 20210. Telephone: 202-693-2920; fax: 202-693-3229.

SUPPLEMENTARY INFORMATION:

I. Background

Section 112(a) of the Workforce Investment Act (Pub. L. 105-220, August 7, 1998) requires the Governor of the State to submit a strategic Five-year State Plan to the Secretary of Labor in order to be eligible to receive an allocation under section 127 or 132 or to receive financial assistance under the Wagner-Peyser Act. The Five-Year Plans have been submitted; therefore, this request is for the submission of modifications to the Plan. Situations in which modifications may be required by the Governor include (1) changes in Federal or State law or policy substantially change the assumptions upon which the plan is based; (2) there are changes in the State-wide vision, strategies, policies, performance indicators, the methodology used to determine local allocation of funds, reorganizations which change the working relationship with system employees, changes in organizational responsibilities, changes to the membership structure of the State Board or alternative entity and similar substantial changes to the States's workforce investment system; and (3) the State has failed to meet performance goals, and must adjust service strategies.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

III. Current Actions

The Workforce Investment Act of 1998 (Pub. L. 105-220, August 7, 1998), Section 112(a), requires the Governor of the State to submit a State Plan to the Secretary to be eligible to receive an allocation under Section 127 or 132 or to receive financial assistance under the Wagner-Peyser Act. The Plan outlines a Five-year strategy for the State-wide workforce investment system of the State that meets the requirements of sections 111 and 112 of the Act. This reinstatement is needed in order for State governments to submit modifications to the Five-Year Plan as needed. These modifications may be needed in order to keep the Plan a viable, living document over its Five-year life. The Act gives States the authority to modify WIA Plans based on unanticipated circumstances within the State. The Department expects that some States will modify their Plans if changes in economic conditions affect the Strategic Plan's viability. No State Plan modifications have been submitted.

Type of Review: Reinstatement With Change.

Agency: Employment and Training Administration.

Title: Planning Guidance and Instructions for Submission of the Strategic Five-Year State Plan and Plan modifications for Title I of the Workforce Investment Act of 1998 (WIA) and the Wagner-Peyser Act.

OMB Number: 1205-0398.

Total Respondents: 59.

Frequency: As needed.

Total Responses: One.

Average Time per Response: 25 hours.

Estimated Total Burden Hours: 1,475.

Total Burden Cost (capital/startup): $0.

Total Burden Cost (operating/maintaining): $0.

Comments submitted in response to this comment request will be summarized and/or included in the request for the Office of Management and Budget approval of the information collection request; they will also become a matter of public record.

Dated: October 27, 2000.
Raymond L. Bramucci,
Assistant Secretary, Employment and Training Administration.

[FR Doc. 00-28139 Filed 11-1-00; 8:45 am]

BILLING CODE 4510-30-P